DEPARTMENT OF VETERANS AFFAIRS

National Academic Affiliations Council, Notice of Meeting

The Department of Veterans Affairs (VA) gives notice under the Federal Advisory Committee Act, 5 U.S.C. ch. 10, that a meeting of VA's National Academic Affiliations Council (NAAC) will be held on March 26, 2025-March 27, 2025 at The American Legion, 7th Floor, 1608 K Street NW, Washington, DC 20006. The meeting sessions will begin and end as follows:

Date | Time | Location | Open session
Wednesday, March 26, 2025 | 9:00 a.m. to 4:30 p.m. Eastern Standard Time (EST) | The American Legion, 7th Floor, 1608 K Street NW, Washington, DC 20006 | Yes.
Thursday, March 27, 2025 | 9:00 a.m. to 12:00 p.m. EST | The American Legion, 7th Floor, 1608 K Street NW, Washington, DC 20006 | Yes.

The meeting is open to the public.

The purpose of the Council is to advise the Secretary on matters affecting partnerships between VA and its academic affiliates.

On March 26, 2025, the Council will convene an open session and receive presentations and updates beginning at 9 a.m. EST. The agenda will include updates on workforce pathways for mental health trainees, loan repayment and scholarships, mental health residency programs and the Strategic Academic Advisory Council (SAAC). In the afternoon, the Council will receive a presentation and open discussions including Artificial Intelligence updates in the VA. The meeting will adjourn that day at 4:30 p.m.

On March 27, 2025, the Council will convene an open session and receive presentations and updates beginning at 9 a.m. EST. The Council will receive updates from MISSION ACT, Section 403 Implementation and VHA Background, Suitability, Recruitment, and replacement issues with trainees. The Council will receive public comments from 11:20 a.m. to 11:50 a.m. EST. The meeting will adjourn at 12 p.m. EST.

Interested persons may attend and present oral statements to the Council on March 27, 2025, during the public comment period. The designated public dial in number to attend the conference is 872 701 0185. At the prompt, enter meeting ID 480 459 519#. A sign-in sheet for those who want to give comments will be available at the meeting. Individuals who speak are invited to submit a 1-2-page summary of their comments at the time of the meeting for inclusion in the official meeting record. Oral presentations will be limited to five minutes or less, depending on the number of participants. Interested parties may also provide written comments for review by the Council prior to the meeting to Ms. Nellie Mitchell, Designated Federal Officer, or at any time via email to nellie.mitchell@va.gov. Any member of the public wishing to attend or seeking additional information should contact Ms. Mitchell via email or by phone at 608-358-9902.

Dated: January 30, 2025.
Jelessa M. Burney,
Federal Advisory Committee Management Officer.

[FR Doc. 2025-02219 Filed 2-4-25; 8:45 am]

BILLING CODE 8320-01-P